FEDERAL RESERVE SYSTEM

[Docket No. R-1076]

Privacy Act of 1974; Publication of Notice of Systems of Records and Amendment of Existing Systems of Records

AGENCY: Board of Governors of the Federal Reserve System.

ACTION: Notice; publication of four new systems of records and the amendment of one system of records.

SUMMARY: In accordance with the Privacy Act, the Board of Governors of the Federal Reserve System (Board) is publishing notice of four new systems of records, entitled: “Travel Records” (BGFRS-8), “Employee Relations Records” (BGFRS-26), “Performance Management Program Records” (BGFRS-27), and “Employee Assistance Program Records” (BGFRS-28), as well as amendments to “Disciplinary and Adverse Action Records” (BGFRS-6). We invite public comment on this notice.

DATES: The new systems of records and amendments to the existing systems of records will become effective without further notice, on August 21, 2000, unless comments dictate otherwise.

ADDRESSES: Comments, which should refer to Docket No. R-1076, may be mailed to Ms. Jennifer J. Johnson, Secretary, Board of Governors of the Federal Reserve System, 20th Street and Constitution Avenue, NW., Washington, DC 20551 or mailed electronically to regs.comments@federalreserve.gov. Comments addressed to Ms. Johnson also may be delivered to the Board's mail room between 8:45 a.m. and 5:15 p.m. weekdays and to the security control room outside of those hours. The mail room and the security control room are accessible from the Eccles Building courtyard entrance, located on 20th Street between Constitution Avenue and C Street, NW. Comments may be inspected in Room MP-500 between 9 a.m. and 5 p.m.

FOR FURTHER INFORMATION CONTACT: Elaine M. Boutilier, Managing Senior Counsel, Legal Division (202/452-2418), or Chris Fields, Manager, Human Resources Function, Management Division (202/452-3654), Board of Governors of the Federal Reserve System, 20th Street and Constitution Avenue, NW., Washington, DC 20551. For users of the Telecommunications Device for the Deaf (TDD) only, contact Janice Simms at 202/452-4984.

SUPPLEMENTARY INFORMATION: The establishment of the new systems of records and amendments to one existing system of records results from a review of the Board's information practices conducted in accordance with the President's May 14, 1998, memorandum on privacy and information in federal records.

Unlike most Federal government agencies whose personnel files are maintained by the Office of Personnel Management (OPM), the Board maintains its own personnel-related files because the Board has independent statutory authority to hire staff and set the salary and benefit terms for its staff. Accordingly, the personnel-related files of Board employees are not contained in the government-wide systems of records published by OPM. Nevertheless, the Board's personnel-related files are used in much the same manner as those of other federal employees. Accordingly, after reviewing the routine uses for the existing system of records, the Board has determined to adopt many of the routine uses that are used in OPM's government-wide systems of records.

New Systems of Records

The Travel Records contain the information used by the Board's Finance Function to monitor official Board travel and make appropriate reimbursements. It also includes limited records related to the Government Travel Card, but most of the credit card records are maintained by the General Services Administration. Notice of these government-wide records appears in GSA/Govt-3, entitled “Travel Charge Card Program.”

The system of records for Performance Management Program (PMP) reports contains the reports and any supporting or related documentation on the reports. While the system manager for these records is the Associate Director of the Human Resources Function of the Management Division, many of the records are maintained in the various divisions of the Board.

The Employee Relations records concern work-related issues that have been discussed with the employee relations specialists in the Human Resources Function of the Management Division.

The Employee Assistance Program (“EAP”) Records are maintained off Board premises in the office of the counselor who administers the EAP pursuant to a contract with the Board.

Revised System of Records

The revisions to the Disciplinary and Adverse Action Records update the descriptions of the records maintained and add several routine uses that are based on the routine uses used by OPM for the equivalent government-wide system of records. Furthermore, the retention period is revised to comply with the General Records Schedule.

In accordance with 5 U.S.C. 552a(r), a report of these actions is being filed with the Chair of the House Committee on Government Reform and Oversight, the Chair of the Senate Committee on Governmental Affairs, and the Office of Management and Budget.

BGFRS-6

System name:

FRB—Disciplinary and Adverse Action Records.

Security classification:

None.

System location:

Board of Governors of the Federal Reserve System, 20th and Constitution, N.W., Washington, D.C. 20551.

Categories of individuals covered by the system:

Current and former Board employees (including special employees), and annuitants who are involved in a disciplinary or adverse action.

Categories of records in the system:

This system contains records and documents on the processing of adverse actions and disciplinary actions. The records include, as appropriate, copies of the notice of proposed action, materials relied on by the Board to support the reasons in the notice, replies by the employee, statements of witnesses, hearing notices, record of hearings, reports, appeals and related documents, and Board decisions. This system may also contain records related to the Career Transition Program.

Authority for maintenance of the system:

Sections 10(4) and 11(l) of the Federal Reserve Act (12 U.S.C. 244 and 248(l)).

Purpose(s):

These records are collected and maintained to assist the Board in administering its personnel functions, and to maintain a record of proceedings in a disciplinary or adverse action.

Routine uses of records maintained in the system, including categories of users and the purposes of such uses:

The information in the records may be used:

a. To disclose information to any source from which additional information is requested for processing any of the covered actions or in regard to any appeal or administrative review procedure, to the extent necessary to identify the individual, inform the source of the purpose(s) of the request and identify the type of information requested.

b. To disclose pertinent information to the appropriate Federal, State, or local agency responsible for investigating, prosecuting, enforcing, or implementing a statute, rule, regulation, or order, when the Board becomes aware of an indication of a violation or potential violation of civil or criminal law or regulation.

c. To disclose to a Federal agency in the executive, legislative or judicial branch of government, or to a Federal Reserve Bank, in response to its request, or at the initiation of the Board, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

d. To provide information to a congressional office from the record of an individual in response to an inquiry from the congressional office made at the request of the individual.

e. To disclose information to another Federal agency, a court, or a party in litigation before a court or in an administrative proceeding being conducted by a Federal agency, when the Board is a party to the judicial or administrative proceeding.

f. To disclose information to the Department of Justice or in a proceeding before a court, adjudicative body, or other administrative body before which the Board is authorized to appear, when:

(1) The Board or any employee of the Board in his or her official capacity; or

(2) Any employee of the Board in his or her individual capacity where the Department of Justice or the Board has agreed to represent the employee; or

(3) The United States (when the Board determines that the litigation is likely to affect the Board) is a party to litigation or has an interest in such litigation, and the use of such records by the Department of Justice or the Board is deemed by the Board to be relevant and necessary to the litigation provided, however, that in each case it has been determined that the disclosure is compatible with the purpose for which the records were collected.

g. By the National Archives and Records Administration in connection with records management inspections and its role as Archivist.

h. To disclose information to the Equal Employment Opportunity Commission when requested in connection with investigations or other functions vested in the Commission.

i. To disclose information to the Merit Systems Protection Board in connection with appeals filed by preference-eligible employees.

j. To disclose information in connection with the investigation and resolution of allegations of unfair labor practices before the Federal Reserve Board Labor Relations Panel when requested.

k. To disclose, in response to a request for discovery or for appearance of a witness, information that is relevant to the subject matter involved in a pending judicial or administrative proceeding.

l. To locate individuals for personnel research or survey response and in producing summary descriptive statistics and analytical studies to support the function for which the records are collected and maintained, or for related work force studies. While published statistics and studies do not contain individual identifiers, in some instances the selection of elements of data included in the study may be structured in such a way as to make the data individually identifiable by inference.

m. To provide an official of another Federal agency information he or she needs to know in the performance of his or her official duties or reconciling or reconstructing data files, in support of the functions for which the records were collected and maintained.

n. To disclose information to the Department of Labor, Department of Veterans Administration, Social Security Administration, or any other Federal Agencies that have special civilian employee retirement programs; or to a national, State, county, municipal, or other publicly recognized charitable or income security, administration agency (e.g., State unemployment compensations agencies), when necessary to adjudicate a claim under the retirement, insurance, unemployment, or health benefits programs of the Board or an agency, or to conduct an analytical study or audit of benefits being paid under such programs.

o. To disclose to contractors, grantees or volunteers performing or working on a contract, service, grant, cooperative agreement, or job for the Board, when necessary to performance.

Disclosure to consumer reporting agencies:

Not applicable.

Policies and practices for storing, retrieving, accessing, retaining, and disposing of records in the system:

Storage:

These records are maintained in file folders, binders, index cards, magnetic tape and disk.

Retrievability:

These records are indexed by the names of the individuals on whom they are maintained.

Safeguards:

Access to and use of these records are limited to those persons whose official duties require such access. Personnel screening is employed to prevent unauthorized disclosure.

Retention and disposal:

Records are maintained for seven years after the case is closed.

System manager(s) and address:

Associate Director, Human Resources Function, Management Division, Board of Governors of the Federal Reserve System, 20th & Constitution, NW., Washington, DC 20551.

Notification procedure:

Inquiries should be sent to the Secretary of the Board, Board of Governors of the Federal Reserve System, 20th and Constitution Avenue, NW., Washington, DC 20551. The request should contain the individual's name, date of birth, Social Security number, identification number (if known), approximate date of record, and type of position. Individuals receiving notice of a proposed adverse action must be provided access to all documents supporting the notice. At any time thereafter, individuals subject to the action will be provided access to the complete record.

Record access procedures:

Individuals against whom disciplinary or adverse actions are taken must be provided access to the record. However, after the action has been closed, an individual may request access to the official file by contacting the Secretary of the Board, Board of Governors of the Federal Reserve System, 20th and Constitution Avenue, NW., Washington, DC 20551. The request should contain the individual's name, date of birth, Social Security number, identification number (if known), approximate date of record, and type of position.

Contesting record procedures:

Review of requests from individuals seeking amendment of their records that have or could have been the subject of a judicial, quasi-judicial, or administrative action will be limited in scope. Review of amendment requests of these records will be restricted to determining if the record accurately documents that action of the Board, and will not include a review of the merits of the action, determination, or finding.

Individuals wishing to request amendment of their records to correct factual errors should contact the Secretary of the Board, Board of Governors of the Federal Reserve System, 20th and Constitution Avenue, NW., Washington, DC 20551. The request should contain the individual's name, date of birth, Social Security number, identification number (if known), approximate date of record, and type of position.

Record source categories:

Individual to whom the record pertains; Board officials; affidavits or statements from employees; testimonies of witnesses; official documents relating to an action, appeal, grievance, or complaints; and correspondence from specific organizations or persons.

Systems exempted from certain provisions of the act:

None.

BGFRS-8

System name:

Travel Records.

Security classification:

None.

System location:

Board of Governors of the Federal Reserve System, 20th and Constitution, NW., Washington, DC 20551. A commercial credit card contractor maintains information on employee use of the government travel credit card.

Categories of individuals covered by the system:

Current and former Board employees.

Categories of records in the system:

Travel Authorization forms and supporting documentation; Travel Expense Statements and supporting documentation; applications for the government travel card; periodic reports from the commercial credit card contractor regarding use of the government travel cards; records regarding Board reimbursement of travel expenses; and records regarding reservations for transportation and lodging made by the Board's Travel Desk.

Authority for maintenance of the system:

Sections 10(4) and 11(l) of the Federal Reserve Act (12 U.S.C. 244 and 248(l)).

Purpose(s):

To provide a travel management process that covers official travel for the Board and provides for tracking and appropriate reimbursement of expenses incurred in such travel.

Routine uses of records maintained in the system, including categories of users and the purposes of such uses:

The information in the records may be used:

a. By the National Archives and Records Administration in connection with records management inspections and its role as Archivist.

b. To disclose to contractors, grantees or volunteers performing or working on a contract, service, grant, cooperative agreement, or job for the Board, where necessary for performance.

c. To provide information to a congressional office from the record of an individual in response to an inquiry from the congressional office made at the request of the individual.

d. To disclose information to another Federal agency, a court, or a party in litigation before a court or in an administrative proceeding being conducted by a Federal agency, when the Board is a party to the judicial or administrative proceeding.

e. To disclose information to the Department of Justice or in a proceeding before a court, adjudicative body, or other administrative body before which the Board is authorized to appear, when:

(1) The Board or any employee of the Board in his or her official capacity; or

(2) Any employee of the Board in his or her individual capacity where the Department of Justice or the Board has agreed to represent the employee; or

(3) The United States (when the Board determines that the litigation is likely to affect the Board) is a party to litigation or has an interest in such litigation, and the use of such records by the Department of Justice or the Board is deemed by the Board to be relevant and necessary to the litigation provided, however, that in each case it has been determined that the disclosure is compatible with the purpose for which the records were collected.

f. To disclose information to the Equal Employment Opportunity Commission when requested in connection with investigations or other functions vested in the Commission.

g. To disclose information to the Merit Systems Protection Board in connection with appeals filed by preference-eligible employees.

h. To disclose information in connection with the investigation and resolution of allegations of unfair labor practices before the Federal Reserve Board Labor Relations Panel when requested.

i. To disclose, in response to a request for discovery or for appearance of a witness, information that is relevant to the subject matter involved in a pending judicial or administrative proceeding.

j. To disclose pertinent information to the appropriate Federal, State, or local agency responsible for investigating, prosecuting, enforcing, or implementing a statute, rule, regulation, or order, when the Board becomes aware of an indication of a violation or potential violation of civil or criminal law or regulation.

Disclosure to consumer reporting agencies:

Disclosures may be made from this system to consumer reporting agencies as defined in the Fair Credit Reporting Act (15 U.S.C. 1681a(f)) regarding the use of the government travel card.

Policies and practices for storing, retrieving, accessing, retaining, and disposing of records in the system:

Storage:

Records are maintained in file folders and in computer processable storage media.

Retrievabililty:

Records are indexed by name or trip number.

Safeguards:

Current and previous year's paper records are stored in the central lundia file system with access limited to those whose official duties require it. Records three years and older are stored in cardboard files in secured rooms. Access to computerized records is limited, through use of access codes, to those whose official duties require it.

Retention and disposal:

Records are destroyed six years after reimbursement is made unless the claim is subject to litigation, in which case the records are destroyed when 10 years old.

System manager(s) and address:

Associate Director, Finance Function, Management Division, Board of Governors of the Federal Reserve System, 20th & Constitution, NW., Washington, DC 20551.

Notification procedure:

Inquiries should be sent to the Secretary of the Board, Board of Governors of the Federal Reserve System, 20th and Constitution Avenue, NW., Washington, DC 20551. The request should contain the individual's name, date of birth, Social Security number, identification number (if known), approximate date of record, and type of position.

Record access procedures:

Same as “Notification procedure” above.

Contesting record procedures:

Same as “Notification procedure” above.

Record source categories:

Information provided by the employee, information from Travel Authorizations, reports from the credit card contractor, information from the Finance Function of the Management Division regarding reimbursement; and information from the Travel Desk regarding reservations.

Systems exempted from certain provisions of the act:

None.

BGFRS-26

System name:

FRB—Employee Relations Records.

Security Classification:

None.

System location:

Board of Governors of the Federal Reserve System, 20th and Constitution, NW., Washington, DC 20551.

Categories of individuals covered by the system:

Current and former Board employees (including special employees) with work-related issues that have involved the employee relations specialists in the Human Resources Function of the Management Division.

Categories of records in the system:

This system of records contains written communications and related documents involved in adjusting work-related problems. Such documents may include copies of records included in other systems of records, including Performance Management Program (PMP) reports and related documentation; records of disciplinary actions; and records related to the Board's Drug-Free Workplace Plan. This system also includes records related to the Career Transition Program.

Authority for maintenance of the system:

Sections 10(4) and 11(l) of the Federal Reserve Act (12 U.S.C. 244 and 248(l)).

Purpose(s):

These records are collected and maintained to assist the Board in administering its personnel functions, and to assist employees in resolving work-related issues.

Routine uses of records maintained in the system, including categories of users and the purposes of such uses:

The information in the records may be used:

a. To disclose information to any source from which additional information is requested (to the extent necessary to identify the individual, inform the source of the purpose(s) of the request, and to identify the type of information requested), when necessary to obtain information relevant to a Board decision to hire or retain an employee, issue a security clearance, conduct a security or suitability investigation of an individual, classify jobs, let a contract, or issue a license, grant, or other benefits.

b. To disclose to a Federal agency in the executive, legislative or judicial branch of government, or to a Federal Reserve Bank, in response to its request, or at the initiation of the Board, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

c. To provide information to a congressional office from the record of an individual in response to an inquiry from the congressional office made at the request of the individual.

d. To disclose information to another Federal agency, a court, or a party in litigation before a court or in an administrative proceeding being conducted by a Federal agency, when the Board is a party to the judicial or administrative proceeding.

e. To disclose information to the Department of Justice or in a proceeding before a court, adjudicative body, or other administrative body before which the Board is authorized to appear, when:

(1) The Board or any employee of the Board in his or her official capacity; or

(2) Any employee of the Board in his or her individual capacity where the Department of Justice or the Board has agreed to represent the employee; or

(3) The United States (when the Board determines that the litigation is likely to affect the Board) is a party to litigation or has an interest in such litigation, and the use of such records by the Department of Justice or the Board is deemed by the Board to be relevant and necessary to the litigation provided, however, that in each case it has been determined that the disclosure is compatible with the purpose for which the records were collected.

f. By the National Archives and Records Administration in connection with records management inspections and its role as Archivist.

g. To disclose information to the Equal Employment Opportunity Commission when requested in connection with investigations or other functions vested in the Commission.

h. To disclose information to the Merit Systems Protection Board in connection with appeals filed by preference-eligible employees.

j. To disclose information in connection with the investigation and resolution of allegations of unfair labor practices before the Federal Reserve Board Labor Relations Panel when requested.

k. To disclose, in response to a request for discovery or for appearance of a witness, information that is relevant to the subject matter involved in a pending judicial or administrative proceeding.

l. To disclose pertinent information to the appropriate Federal, State, or local agency responsible for investigating, prosecuting, enforcing, or implementing a statute, rule, regulation, or order, when the Board becomes aware of an indication of a violation or potential violation of civil or criminal law or regulation.

m. To disclose to contractors, grantees or volunteers performing or working on a contract, service, grant, cooperative agreement, or job for the Board, when necessary to the performance.

Disclosure to consumer reporting agencies:

Not applicable.

Policies and practices for storing, retrieving, accessing, retaining, and disposing of records in the system:

Storage:

These records are maintained in file folders in lockable cabinets.

Retrievability:

These records are indexed by the names of the individuals on whom they are maintained.

Safeguards:

Access to and use of these records are limited to those persons whose official duties require such access.

Retention and disposal:

Records are destroyed three years after termination of counseling.

System manager(s) and address:

Associate Director, Human Resources Function, Management Division, Board of Governors of the Federal Reserve System 20th & Constitution, NW., Washington, DC 20551.

Notification procedure:

Inquiries should be sent to the Secretary of the Board, Board of Governors of the Federal Reserve System, 20th and Constitution Avenue, NW., Washington, DC 20551. The request should contain the individual's name, date of birth, Social Security number, identification number (if known), approximate date of record, and type of position.

Record access procedures:

Same as “Notification procedure” above.

Contesting record procedures:

Same as “Notification procedure” above.

Record source categories:

Individual to whom the record pertains; the individual's managers, supervisors and officers; employees and officers in the Human Resources Function of the Management Division.

Systems exempted from certain provisions of the act:

None.

BGFRS-27

System name:

FRB—Performance Management Program Records.

Security classification:

None.

System location:

Board of Governors of the Federal Reserve System, 20th and Constitution, NW., Washington, DC 20551. Final Performance Management Program (PMP) reports are maintained by the Human Resources Function of the Management Division. Supporting documentation for the reports is maintained in the Division where the employee works or worked.

Categories of individuals covered by the system:

Current and former Board employees.

Categories of records in the system:

Completed PMP reports, attachments, and supporting documentation; submissions and written suggestions by the subject employee; records of PMP objective-setting sessions.

Authority for maintenance of the system:

Sections 10(4) and 11(l) of the Federal Reserve Act (12 U.S.C. 244 and 248(l)).

Purpose(s):

These records are collected and maintained to assist the Board in administering its personnel functions.

Routine uses of records maintained in the system, including categories of users and the purposes of such uses:

The information in the records may be used:

a. To consider and select employees for incentive awards, merit increases and performance awards, or other pay bonuses, and other honors and to publicize those granted.

b. To disclose pertinent information to the appropriate Federal, State, or local agency responsible for investigating, prosecuting, enforcing, or implementing a statute, rule, regulation, or order, when the Board becomes aware of an indication of a violation or potential violation of civil or criminal law or regulation.

c. To disclose to a Federal agency in the executive, legislative or judicial branch of government, or to a Federal Reserve Bank, in response to its request, or at the initiation of the Board, information in connection with the hiring of an employee, the issuance of a security clearance, the conducting of a security or suitability investigation of an individual, the classifying of jobs, the letting of a contract, the issuance of a license, grant, or other benefits by the requesting agency, or the lawful statutory, administrative, or investigative purpose of the agency to the extent that the information is relevant and necessary to the requesting agency's decision.

d. To provide information to a congressional office from the record of an individual in response to an inquiry from the congressional office made at the request of the individual.

e. To disclose information to another Federal agency, a court, or a party in litigation before a court or in an administrative proceeding being conducted by a Federal agency, when the Board is a party to the judicial or administrative proceeding.

f. To disclose information to the Department of Justice or in a proceeding before a court, adjudicative body, or other administrative body before which the Board is authorized to appear, when:

(1) The Board or any employee of the Board in his or her official capacity; or

(2) Any employee of the Board in his or her individual capacity where the Department of Justice or the Board has agreed to represent the employee; or

(3) The United States (when the Board determines that the litigation is likely to affect the Board) is a party to litigation or has an interest in such litigation, and the use of such records by the Department of Justice or the Board is deemed by the Board to be relevant and necessary to the litigation provided, however, that in each case it has been determined that the disclosure is compatible with the purpose for which the records were collected.

g. By the National Archives and Records Administration in connection with records management inspections and its role as Archivist.

h. To disclose information to the Equal Employment Opportunity Commission when requested in connection with investigations or other functions vested in the Commission.

i. To disclose information to the Merit Systems Protection Board in connection with appeals filed by preference-eligible employees.

j. To disclose information in connection with the investigation and resolution of allegations of unfair labor practices before the Federal Reserve Board Labor Relations Panel when requested.

k. To disclose, in response to a request for discovery or for appearance of a witness, information that is relevant to the subject matter involved in a pending judicial or administrative proceeding.

l. To locate individuals for personnel research or survey response and in producing summary descriptive statistics and analytical studies to support the function for which the records are collected and maintained, or for related work force studies. While published statistics and studies do not contain individual identifiers, in some instances the selection of elements of data included in the study may be structured in such a way as to make the data individually identifiable by inference.

m. To disclose to contractors, grantees or volunteers performing or working on a contract, service, grant, cooperative agreement, or job for the Board.

Disclosure to consumer reporting agencies:

Not applicable.

Policies and practices for storing, retrieving, accessing, retaining, and disposing of records in the system:

Storage:

These records are maintained in file folders in lockable cabinets.

Retrievability:

These records are indexed by the names of the individuals on whom they are maintained.

Safeguards:

Access to and use of these records are limited to those persons whose official duties require such access.

Retention and disposal:

Retain for 10 years from the year of the rating, then destroy.

System manager(s) and address:

Associate Director, Human Resources Function, Management Division, Board of Governors of the Federal Reserve System 20th & Constitution, NW., Washington, DC 20551.

Notification procedure:

Inquiries should be sent to the Secretary of the Board, Board of Governors of the Federal Reserve System, 20th and Constitution Avenue, NW., Washington, DC 20551. The request should contain the individual's name, date of birth, Social Security number, identification number (if known), approximate date of record, and type of position.

Record access procedures:

Same as “Notification procedure” above.

Contesting record procedures:

Same as “Notification procedure” above.

Record source categories:

Individual to whom the record pertains, and the individual's manager(s).

Systems exempted from certain provisions of the act:

None.

BGFRS-28

System name:

FRB-Employee Assistance Program Records.

Security classification:

None.

System location:

Board of Governors of the Federal Reserve System, 20th and Constitution, NW., Washington, DC 20551. The files are under the control of the Board, but are maintained by an outside consultant pursuant to a contract with the Board.

Categories of individuals covered by the system:

Current and former employees, and their spouses and dependent children, who have consulted with, or been referred to, the Employee Assistance Counselor.

Categories of records in the system:

Case files developed for each client seen by a counselor. These files may contain notes of each contact between the client and counselor, the counselor's assessment, the kind of services being provided (including referrals), and follow-up information on the outcome of the consultation.

Authority for maintenance of the system:

Executive Order 12564 and 12 U.S.C. 244 and 248(l).

Purpose(s):

These records are collected and maintained to assist the Board in providing a safe and healthy working environment, and to comply with E.O. 12564.

Routine uses of records maintained in the system, including categories of users and the purposes of such uses:

With the exception of Routine Use “f,” none of the other Routine Uses are applicable to records relating to drug testing under Executive Order 12564. Further, such records shall be disclosed only to a very limited number of officials within the Board, generally only to the Medical Review Officer, the administrator of the Employee Assistance Program, and the management official empowered to recommend or take adverse action affecting the individual.

In other cases, the information in these records may be used:

a. To disclose information to a new employee assistance contractor following a contract transition for the services.

b. To provide the necessary information to family members, and to the appropriate law enforcement, security services, or child protective services, where there is a reason to suspect abuse or neglect of children or other vulnerable persons, where the individual using the EAP services poses a serious threat to the health or safety of another individual, or where the individual using EAP services presents a clear and present danger to the safety and security of the community or workplace.

c. To provide the information necessary to warn another individual whose health or safety has been seriously threatened by the individual using the EAP services.

d. To provide the necessary information to a family member or guardian, and/or appropriate law enforcement or health authority, where the individual using EAP services says or does something that seriously threatens his or her own health or safety.

e. To disclose the results of a drug test of a Board employee pursuant to an order of a court of competent jurisdiction where required by the U.S. Government to defend against any challenge against any adverse personnel action.

Disclosure to consumer reporting agencies:

Not applicable.

Policies and practices for storing, retrieving, accessing, retaining, and disposing of records in the system:

Storage:

All records are kept in locked files.

Retrievability:

Records are maintained by the name of the individual and the case number assigned to that individual.

Safeguards:

Only staff of the Employee Assistance Program have access to the files, which are maintained on the premises of the contractor hired to administer the program.

Retention and disposal:

Records are maintained for three years, then destroyed.

System manager(s) and address:

Employee Assistance Program Administrator, Board of Governors of the Federal Reserve System, 20th and Constitution Avenue, NW., Washington, DC 20551.

Notification procedure:

Inquiries should be sent to the Secretary of the Board, Board of Governors of the Federal Reserve System, 20th and Constitution Avenue, NW., Washington, DC 20551. The request should contain the individual's name, date of birth, Social Security number, identification number (if known), approximate date of record, and type of position.

Record access procedures:

Same as “Notification procedure” above, but see the special procedures set forth in the Board's Rules Regarding Access to and Review of Personal Information Under the Privacy Act, 12 CFR 261a.7.

Contesting record procedures:

Same as “Notification procedure” above.

Record source categories:

The individual to whom the record pertains; the EAP counselor; an employee's physical or mental health care provider or counselor; medical institutions; the contractor administering the Drug-Free Workplace Plan; Federal Reserve System personnel records.

Systems exempted from certain provisions of the act:

None.

By order of the Board of Governors of the Federal Reserve System, acting through the Secretary of the Board under delegated authority, July 6, 2000.
Jennifer J. Johnson,
Secretary of the Board.

[FR Doc. 00-17519 Filed 7-11-00; 8:45 am]

BILLING CODE 6210-01-P